POSTAL SERVICE

United States Postal Service Board of Governors; Sunshine Act Meeting

DATES AND TIMES: Tuesday, December 7, 2004; 10 a.m. and 3 p.m.

PLACE: Washington, DC., at U.S. Postal Service Headquarters, 475 L'Enfant Plaza, SW., in the Benjamin Franklin Room.

STATUS: December 7—10 a.m. (Closed); 3 p.m. (Open).

MATTERS TO BE CONSIDERED:

Tuesday, December 7—10 a.m. (Closed)

1. Biohazard Detection Systems.

2. Audit and Finance Committee Report and Review of Year-End Financial Statements.

3. Financial Update.

4. Rate Case Planning.

5. Strategic Planning.

6. Personnel Matters and Compensation Issues.

Tuesday, December 7—3 p.m. (Open)

1. Minutes of the Previous Meeting, November 4, 2004.

2. Remarks of the Postmaster General and CEO.

3. Committee Reports.

4. Fiscal Year 2004 Audited Financial Statements.

5. Postal Service Fiscal Year 2004 Annual Report.

6. Final Fiscal Year 2006 Appropriation Request.

7. Capital Investments.

a. Bethpage, New York, Logistics & Distribution Center.

b. Kearny, New Jersey, Logistics & Distribution Center.

8. Tentative Agenda for the January 11, 2005, meeting in Washington, DC

FOR FURTHER INFORMATION CONTACT: William T. Johnstone, Secretary of the Board, U.S. Postal Service, 475 L'Enfant Plaza, SW., Washington, DC 20260-1000. Telephone (202) 268-4800.

William T. Johnstone,
Secretary.

Neva R. Watson,
Alternate Certifying Officer.

[FR Doc. 04-26237 Filed 11-22-04; 4:12 pm]

BILLING CODE 7710-12-M